DEPARTMENT OF HEALTH AND HUMAN SERVICES

Centers for Disease Control and Prevention

[60Day-10-0234]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to CDC Assistant Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

National Ambulatory Medical Care Survey (NAMCS), (OMB No. 0920-0234 exp. 7/31/2012)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the utilization of health care provided by nonfederal office-based physicians in the United States.

On February 26, 2010, the Office of Management and Budget (OMB) approved data collection for three years. This revision is to notify the public that the President's fiscal year 2011 budget requests that Congress consider a budget increase for this survey for 2011. If the budget increase is approved by Congress, expanded data collection will begin in the first calendar quarter of 2011 or as soon thereafter as is possible. An increased sample size of approximately 6,800 physicians and 60,000 visit records (a doubling from 3,400 physicians and 30,000 visit records sampled in 2010) is requested. Currently the NAMCS produces national and regional estimates. If the full budget increase is approved by Congress, the survey will be able to produce the same estimates as it does currently as well as data on a limited number of states when data are combined across two years. This increase will greatly improve the ability to track providers' practice patterns, including their adoption and meaningful use of health information technology (HIT).

Congress may approve all, some or none of the budget increase requested in the President's budget. If approved, this notice would allow the proposed request for a sample increase to move forward to OMB for final review in sufficient time to implement the sample increase in the first quarter of 2011. This notice also covers increases in sample size that might result due to other budget allocations.

NAMCS was conducted annually from 1973 to 1981, again in 1985, and resumed as an annual survey in 1989. The purpose of NAMCS, a voluntary survey, is to meet the needs and demands for statistical information about the provision of ambulatory medical care services in the United States. Ambulatory services are rendered in a wide variety of settings, including physicians' offices and hospital outpatient and emergency departments. The NAMCS target universe consists of all office visits made by ambulatory patients to non-Federal office-based physicians (excluding those in the specialties of anesthesiology, radiology, and pathology) who are engaged in direct patient care. In 2006, physicians and mid-level providers (i.e., nurse practitioners, physician assistants, and nurse midwives) practicing in community health centers (CHCs) were added to the NAMCS sample, and these data will continue to be collected. To complement NAMCS data, NCHS initiated the National Hospital Ambulatory Medical Care Survey (NHAMCS, OMB No. 0920-0278) in 1992 to provide data concerning patient visits to hospital outpatient and emergency departments. NAMCS and NHAMCS are the principal sources of data on ambulatory care provided in the United States. A three-year clearance is requested.

There is no cost to the respondents other than their time.

Estimated Annualized Burden Table
Form | Number of respondents | Number of responses per respondent | Avg. burden per response (in hrs) | Total burden hours
Induction Interview-Physicians/CHC Providers | 7,112 | 1 | 28/60 | 3,319
Patient Record Form | 2,797 | 30 | 8/60 | 11,188
EMR Mail Survey | 10,302 | 1 | 20/60 | 3,434
CHC Induction Interview-Facility | 208 | 1 | 20/60 | 69
Total |  |  |  | 18,010

Dated: July 7, 2010.
Carol Walker,
Acting Reports Clearance Officer, Centers for Disease Control and Prevention.

[FR Doc. 2010-17050 Filed 7-12-10; 8:45 am]

BILLING CODE 4163-18-P